SOCIAL SECURITY ADMINISTRATION

[Docket No. SSA-2022-0033]

Privacy Act of 1974; System of Records

AGENCY: Social Security Administration (SSA).

ACTION: Notice of a modified system of records.

SUMMARY: In accordance with the Privacy Act of 1974, we are issuing public notice of our intent to modify an existing system of records entitled, Disability Insurance and Supplemental Security Income Demonstration Projects and Experiments System (60-0218), last published on January 11, 2006. This notice publishes details of the modified system as set forth below under the caption, SUPPLEMENTARY INFORMATION.

DATES: The system of records notice (SORN) is applicable upon its publication in today's Federal Register, with the exception of the new routine uses, which are effective April 17, 2023. We invite public comment on the routine uses or other aspects of this SORN. In accordance with the Privacy Act of 1974, we are providing the public a 30-day period in which to submit comments. Therefore, please submit any comments by April 17, 2023.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov. Please reference docket number SSA-2022-0033. All comments we receive will be available for public inspection at the above address and we will post them to http://www.regulations.gov.

FOR FURTHER INFORMATION CONTACT: Tristin Dorsey, Government Information Specialist, Privacy Implementation Division, Office of Privacy and Disclosure, Office of the General Counsel, SSA, Room G-401 West High Rise, 6401 Security Boulevard, Baltimore, Maryland 21235-6401, telephone: (410) 966-5855, email: tristin.dorsey@ssa.gov and Matthew Burch, Government Information Specialist, Disclosure and Data Support Division, Office of Privacy and Disclosure, Office of the General Counsel, SSA, Room G-401 West High Rise, 6401 Security Boulevard, Baltimore, Maryland 21235-6401, telephone: (410) 966-5855, email: matthew.burch@ssa.gov.

SUPPLEMENTARY INFORMATION: We are modifying the system of records name from “Disability Insurance and Supplemental Security Income Demonstration Projects and Experiments System, SSA, Deputy Commissioner for Disability Income and Security Programs” to “Disability Insurance and Supplemental Security Income Demonstration Projects and Experiments System.” We are modifying the system manager and location to clarify the office responsible for maintaining the system and the locations of the records within the system.

We are clarifying the categories of individuals and the purpose of the system for easier reading. We are revising the authority for maintenance of the system to add section 1106 of the Social Security Act, as amended. We are expanding the categories of records to include name; address; and education, criminal justice, and program participation records. We are also updating the record source categories to include other Federal, State, and local agencies; existing SSA systems of records; and cooperative awardees or grantees.

In addition, we are deleting routine use Nos. 1 and Nos. 2 of the previously published notice, as portions of these routine uses are no longer applicable. We are incorporating applicable portions of the deleted routine uses into two new routine uses that will permit disclosures to a congressional office, for the purpose of responding to any inquiries received and to contractors and other Federal agencies, for the purpose of assisting SSA in the efficient administration of our programs.

We are adding six additional routine uses to permit disclosures to contractors, cooperative agreement awardees, Federal, State, and local agencies, and Federal congressional support agencies for research and statistical activities; to the Office of the President, for the purpose of responding to any inquiries received; to Federal, State, and local law enforcement agencies and private contractors, for the safety and security of SSA employees, customers, and facilities; to the Department of Justice (DOJ) for litigation purposes; to third party contacts that may have information relevant to determining the current contact information for a project participant; and to third parties, when an individual involved with a project needs assistance to communicate because of a hearing impairment or a language barrier. We are expanding the policies and practices for retrieval of records to include case number and other identifiers such as socioeconomic, demographic, medical, and disability characteristics.

Lastly, we are clarifying the policies and practices for the retention and disposal of records to advise of the appropriate records schedules. We are modifying the notice throughout to correct miscellaneous stylistic formatting and typographical errors of the previously published notice, and to ensure the language reads consistently across multiple systems. We are republishing the entire notice for ease of reference.

In accordance with 5 U.S.C. 552a(r), we have provided a report to OMB and Congress on this modified system of records.

Matthew Ramsey,
Executive Director, Office of Privacy and Disclosure, Office of the General Counsel.

SYSTEM NAME AND NUMBER:

Disability Insurance and Supplemental Security Income Demonstration Projects and Experiments System, 60-0218.

SECURITY CLASSIFICATION:

Unclassified.

SYSTEM LOCATION:

Social Security Administration, Office of Retirement and Disability Policy, Office of Research, Demonstration, and Employment Support, 6401 Security Boulevard, Baltimore, Maryland 21235.

Contractors, who maintain information on behalf of SSA—contact System Manager for contractor address information.

SYSTEM MANAGER(S):

Social Security Administration, Deputy Commissioner for Retirement and Disability Policy, Office of Research, Demonstration, and Employment Support, 6401 Security Boulevard, Baltimore, Maryland 21235, (410) 966-5855.

AUTHORITY FOR MAINTENANCE OF THE SYSTEM:

Sections 222, 234, 1106, and 1110 of the Social Security Act, as amended; section 505 of the Social Security Disability Amendments of 1980 (Pub. L. 96-265); section 12101 of the Consolidated Omnibus Budget Reconciliation Act of 1985 (Pub. L. 99-272); section 10103 of the Omnibus Budget Reconciliation Act of 1989 (Pub. L. 101-239); and section 5120 of the Omnibus Reconciliation Act of 1990 (Pub. L. 101-508).

PURPOSE(S) OF THE SYSTEM:

We will use the information in this system to perform and evaluate demonstrations and experiments, for the purpose of testing alternative approaches related to the prevention and reduction of dependency, or which will aid in effecting coordination of planning between private and public welfare agencies, or which will help improve the administration and effectiveness of programs carried on or assisted under the Social Security Act and related programs. This includes, but is not limited to, alternative approaches to continuing benefits eligibility during employment, and to the rehabilitation of title II (Disability Insurance (DI)) beneficiaries and individuals who apply for, or receive, title XVI (Supplemental Security Income (SSI)) payments on the basis of a disability or blindness. We will also use the information in this system for congressional reporting.

CATEGORIES OF INDIVIDUALS COVERED BY THE SYSTEM:

This system maintains information on participants in demonstrations or experiments, to include those in treatment and comparison groups. Individuals covered by the system include, but are not limited to, applicants, potential applicants, beneficiaries, and recipients of DI and SSI benefits, their representatives and auxiliaries, and those participating in related Federal, State, local, and other programs.

CATEGORIES OF RECORDS IN THE SYSTEM:

This system consists of records collected and used to conduct and evaluate demonstrations and experiments. Records may include, but are not limited to: name; address; demographic characteristics (e.g., date of birth, sex, and state of residence); marital status; military service; family and household composition, including dependents; medical history (mental and physical); medical expenses; disability characteristics (e.g., primary diagnosis code and dual eligibility) and health information; living arrangements; health insurance coverage and use; use of medical and rehabilitative services (e.g., agency closure type and service use); employment data; occupation and industry classification; income data (including tax return information subject to section 6103 of the Internal Revenue Code (IRC)); earnings and expenditures; referrals to and participation in SSI and related Federal and State welfare programs; benefit history information; types of cost of services under DI, SSI, and related Federal and State welfare programs; reasons for, or circumstances of, closure; attitudes toward work rehabilitation or treatment programs; impairment-related work expenses; worker's compensation benefits; job search methods; knowledge and understanding of provisions affecting entitlement to benefits; participation in, and services rendered under, the Ticket-to-Work program; education records (e.g., information pertaining to attendance, dropout, graduation, courses, course completion, course performance, offenses, exam performance, survey data, post-high school plans, and college preparatory activities); criminal justice records (e.g., arrest or prisoner records); program participation records; and for SSI projects only, driver's license information and information concerning alcohol and drug use.

RECORD SOURCE CATEGORIES:

We obtain information in this system of records from existing SSA systems of records including, but not limited to: 60-0044, National Disability Determination Services File; 60-0058, Master Files of Social Security Number (SSN) Holders and SSN Applications; 60-0050, Completed Determination Record—Continuing Disability Determinations; 60-0059, Earnings Recording and Self-Employment Income System; 60-0089, Claims Folder System; 60-0090, Master Beneficiary Record; 60-0103, Supplemental Security Income Record and Special Veterans Benefits; 60-0094, Recovery of Overpayments, Accounting and Reporting/Debt Management System (ROAR/DMS); 60-0221, Vocational Rehabilitation Reimbursement Case Processing System; 60-0295, Ticket-to-Work and Self-Sufficiency Program Payment Database; 60-0300, Ticket-to-Work Program Manager Management Information System; 60-0320, Electronic Disability Claim File; and 60-0330, eWork.

We also obtain information from other sources including, but not limited to: other Federal, State, and local agencies; surveys; the individual to whom the record pertains; case service reports of vocational rehabilitation (VR) agencies and referral and monitoring agencies; employers; and contractors, cooperative awardees, or grantees.

ROUTINE USES OF RECORDS MAINTAINED IN THE SYSTEM, INCLUDING CATEGORIES OF USERS AND PURPOSES OF SUCH USES:

We will disclose records pursuant to the following routine uses; however, we will not disclose any information defined as “return or return information” under 26 U.S.C. 6103 of the IRC, unless authorized by a statute, the Internal Revenue Service (IRS), or IRS regulations.

1. To the IRS, Department of the Treasury, for the purpose of auditing SSA's compliance with the safeguard provisions of the IRC of 1986, as amended.

2. To student volunteers, individuals working under a personal services contract, and other workers who technically do not have the status of Federal employees, when they are performing work for us, as authorized by law, and they need access to personally identifiable information (PII) in our records in order to perform their assigned agency functions.

3. To the National Archives and Records Administration (NARA) under 44 U.S.C. 2904 and 2906.

4. To the Secretary of Health and Human Services or to any State, the Commissioner shall disclose any record of information requested in writing by the Secretary, for the purpose of administering any program administered by the Secretary, if records or information of such type were so disclosed under applicable rules, regulations, and procedures in effect before the date of enactment of the Social Security Independence and Program Improvements Act of 1994.

5. To appropriate agencies, entities, and persons when:

(a) SSA suspects or has confirmed that there has been a breach of the system of records;

(b) SSA has determined that, as a result of the suspected or confirmed breach, there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

6. To another Federal agency or Federal entity, when we determine that information from this system of records is reasonably necessary to assist the recipient agency or entity in:

(a) responding to a suspected or confirmed breach; or

(b) preventing, minimizing, or remedying the risk of harm to individuals, the recipient agency or entity (including its information systems, programs, and operations), the Federal Government, or national security, resulting from a suspected or confirmed breach.

7. To a congressional office in response to an inquiry from that office made on behalf of, and at the request of, the subject of the record or third party acting on the subject's behalf.

8. To contractors and other Federal agencies, as necessary, for the purpose of assisting SSA in the efficient administration of its programs. We will disclose information under this routine use only in situations in which SSA may enter into a contractual or similar agreement to obtain assistance in accomplishing an SSA function relating to this system of records.

9. To contractors, cooperative agreement awardees, State agencies, Federal agencies, and Federal congressional support agencies for research and statistical activities that are designed to increase knowledge about present or alternative Social Security programs; are of importance to the Social Security program or beneficiaries; or are for an epidemiological project that relates to the Social Security program or beneficiaries. We will disclose information under this routine use pursuant only to a written agreement between the organization or agency and SSA.

10. To the Office of the President, in response to an inquiry received from that office made on behalf of, and at the request of, the subject of record or a third party acting on the subject's behalf.

11. To Federal, State, and local law enforcement agencies and private security contractors, as appropriate, information necessary:

(a) to enable them to protect the safety of SSA employees and customers, the security of our workplace and the operation of our facilities, or

(b) to assist investigations or prosecutions with respect to activities that affect such safety and security or activities that disrupt the operation of our facilities.

12. To DOJ, a court or other tribunal, or another party before such court or tribunal, when:

(a) SSA, or any component thereof; or

(b) any SSA employee in their official capacity; or

(c) any SSA employee in their individual capacity where DOJ (or SSA where it is authorized to do so) has agreed to represent the employee; or

(d) the United States or any agency thereof, where SSA determines the litigation is likely to affect SSA or any of its components, is a party to the litigation or has an interest in such litigation, and we determine that the use of such records by DOJ, a court or other tribunal, or another party before the tribunal, is relevant and necessary to the litigation, provided, however, that in each case, we determine that such disclosure is compatible with the purpose for which the records were collected.

13. To third party contacts that may have information relevant to determining the current contact information for a project participant, when the agency has been unsuccessful in establishing contact.

14. To third parties, when an individual involved with a project needs assistance to communicate because of a hearing impairment or a language barrier exists (e.g., to interpreters, telecommunications relay system operators).

POLICIES AND PRACTICES FOR STORAGE OF RECORDS:

We will maintain records in this system in paper form and in electronic form.

POLICIES AND PRACTICES FOR RETRIEVAL OF RECORDS:

We will retrieve records in this system by case number or SSN. We will also retrieve records by other identifiers such as name; date of birth; address; sex; and geographic, socioeconomic, demographic, medical, and disability characteristics, as possible in specific file structures for individual projects.

POLICIES AND PRACTICES FOR RETENTION AND DISPOSAL OF RECORDS:

In accordance with NARA rules codified at 36 CFR 1225.16, we maintain records in accordance with the applicable sections of the approved agency-specific records schedule, N1-047-09-05, Supplemental Security Income Record, and approved NARA General Records Schedule (GRS) 4.2, item 130 and GRS 5.2, item 020.

ADMINISTRATIVE, TECHNICAL, AND PHYSICAL SAFEGUARDS:

We retain electronic and paper files with personal identifiers in secure storage areas accessible only by our authorized employees and contractors who have a need for the information when performing their official duties. Security measures include the use of codes and profiles, personal identification numbers and passwords, and personal identification verification cards. We keep paper records in locked cabinets within secure areas, with access limited to only those employees who have an official need for access in order to perform their duties. To the maximum extent consistent with the approved research needs, we purge personal identifiers from micro-data files prepared for purposes of research and subject these files to procedural safeguards to assure anonymity.

We annually provide our employees and contractors with appropriate security awareness training that includes reminders about the need to protect PII and the criminal penalties that apply to unauthorized access to, or disclosure of, PII (5 U.S.C. 552a(i)(1)). Furthermore, employees and contractors with access to databases maintaining PII must sign a sanctions document annually, acknowledging their accountability for inappropriately accessing or disclosing such information.

RECORD ACCESS PROCEDURES:

Individuals may submit requests for notification of, or access to, information about them contained in this system by submitting a written request to the system manager at the above address, which includes their name, SSN, or other information that may be in this system of records that will identify them. Individuals requesting notification of, or access to, a record by mail must include (1) a notarized statement to verify their identity or (2) must certify in the request that they are the individual they claim to be and that they understand that the knowing and willful request for, or acquisition of, a record pertaining to another individual under false pretenses is a criminal offense.

Individuals requesting notification of, or access to, records may also make an in-person request by providing their name, SSN, or other information that may be in this system of records that will identify them, as well as provide an identifying document, preferably with a photograph, such as a driver's license. Individuals lacking identification documents sufficient to establish their identity must certify in writing that they are the individual they claim to be and that they understand that the knowing and willful request for, or acquisition of, a record pertaining to another individual under false pretenses is a criminal offense. These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as record access procedures. These procedures are in accordance with our regulations at 20 CFR 401.40 and 401.45.

EXEMPTIONS PROMULGATED FOR THE SYSTEM:

None.

HISTORY:

71 FR 1836, Disability Insurance and Supplemental Security Income Demonstration Projects and Experiments System.

72 FR 69723, Disability Insurance and Supplemental Security Income Demonstration Projects and Experiments System.

83 FR 54969, Disability Insurance and Supplemental Security Income Demonstration Projects and Experiments System.

[FR Doc. 2023-05455 Filed 3-16-23; 8:45 am]

BILLING CODE 4191-02-P